DEPARTMENT OF ENERGY

Federal Energy Regulatory Commission

Notice of Commission Staff Attendance

The Federal Energy Regulatory Commission (Commission) hereby gives notice that members of the Commission's staff may attend the following meeting related to the transmission planning activities of the Southeastern Regional Transmission Planning (SERTP) Process.

The SERTP Process Fourth Quarter Meeting.

December 15, 2015 10:00 a.m.-2:00 p.m. (Eastern Time)

The above-referenced meeting will be via web conference.

The above-referenced meeting is open to stakeholders.

Further information may be found at: www.southeasternrtp.com.

The discussions at the meeting described above may address matters at issue in the following proceedings:

Docket Nos. ER13-1928, et al., Duke Energy Carolinas, LLC, et al.

Docket Nos. ER13-1923, et al., Midcontinent Independent System Operator, Inc., et al.

Docket No. EL15-32, North Carolina Waste Awareness and Reduction Network, Inc. v. Duke Energy Carolinas and Duke Energy Progress.

For more information, contact Valerie Martin, Office of Energy Market Regulation, Federal Energy Regulatory Commission at (202) 502-6139 or Valerie.Martin@ferc.gov.

Dated: December 10, 2015.
Nathaniel J. Davis, Sr.,
Deputy Secretary.

[FR Doc. 2015-31611 Filed 12-15-15; 8:45 am]

BILLING CODE 6717-01-P